DEPARTMENT OF ENERGY

Energy Information Administration

Agency Information Collection Activities: Submission for OMB Review, Comment Request

Correction

In notice document 01-22701 beginning on page 47192, in the issue of Tuesday, September 11, 2001, make the following correction:

On page 47192, in the third column, in the 11th line from the bottom, the web address is corrected to read as follows: “http://www.eia.doe.gov/fuelelectric.html”.

[FR Doc. C1-22701 Filed 9-19-01; 8:45 am]

BILLING CODE 1505-01-D